GENERAL SERVICES ADMINISTRATION

Federal Travel Regulation (FTR); Maximum Per Diem Rates for the States of Idaho, Maryland, and South Carolina

AGENCY: Office of Governmentwide Policy, General Services Administration (GSA).

ACTION: Notice of Per Diem Bulletin 09-05, revised continental United States (CONUS) per diem rates.

SUMMARY: The General Services Administration (GSA) has reviewed the per diem rates for certain locations in the States of Idaho and Maryland and determined that they are inadequate. GSA has also reviewed and is amending the county boundaries of Columbia, South Carolina.

FOR FURTHER INFORMATION CONTACT: For clarification of content, contact Mr. Cy Greenidge, Office of Governmentwide Policy, Travel Management Policy, at (202) 219-2349. Please cite FTR Per Diem Bulletin 09-05.

SUPPLEMENTARY INFORMATION:

A. Background

After an analysis of the per diem rates established for FY 2009 (see the Federal Register notice at 73 FR 46271, August 8, 2008), the per diem rate is being changed in the following locations:

State of Idaho

• Boundary County.

• Bonner County.

• Teton County.

• Bonneville County.

• Fremont County.

State of Maryland

• Frederick County.

State of South Carolina

• Lexington County.

Per diem rates are published on the Internet at http://www.gsa.gov/perdiem as FTR per diem bulletins. This process ensures timely increases or decreases in per diem rates established by GSA for Federal employees on official travel within CONUS. Notices published periodically in the Federal Register, such as this one, now constitute the only notification of revisions in CONUS per diem rates to agencies.

Dated: March 17, 2009.
Becky Rhodes,
Deputy Associate Administrator, Office of Travel, Transportation and Asset Management.

[FR Doc. E9-6261 Filed 3-19-09; 8:45 am]

BILLING CODE 6820-14-P